ENVIRONMENTAL PROTECTION AGENCY

40 CFR Part 82

[FRL-7529-4]

RIN 2060-AJ27

Protection of Stratospheric Ozone: Phaseout of Chlorobromomethane Production and Consumption

AGENCY: Environmental Protection Agency (EPA).

ACTION: Final rule.

SUMMARY: In accordance with the Montreal Protocol on Substances that Deplete the Ozone Layer (Protocol), EPA is adding chlorobromomethane (CBM) to the list of substances subject to production and consumption controls under the Clean Air Act (CAA) and EPA's implementing regulations. Today's action creates a new Group (Group VIII) of class I substances for CBM, and designates the value of CBM's “ozone depleting potential” (ODP) as 0.12. In accordance with the Protocol, today's action will phase out CBM production and consumption upon publication of this rule with permitted exemptions. Today's action also restricts trade in CBM with countries who are not Parties to the Beijing Amendments to the Protocol. EPA received no comments on the Notice of Proposed Rulemaking (NPRM) during the comment period between October 29, 2002 and November 29, 2002.

DATES: This rule is effective on August 18, 2003.

ADDRESSES: Materials relevant to this rulemaking are contained in Public Docket No. A-92-13, Section XII. The docket is located at U.S. Environmental Protection Agency, EPA West (Air Docket), 1301 Constitution Avenue, NW., Room: B108, Mail Code 6102T, Washington, DC 20004. The materials may be inspected from 8 am until 5:30 pm, Monday through Friday. The telephone number is (202) 566-1742. The fax number is (202) 566-1741. The docket may charge a reasonable fee for copying docket materials.

FOR FURTHER INFORMATION CONTACT: The Stratospheric Ozone Information Hotline at 1-800-296-1996, or Jabeen Akhtar, U.S. Environmental Protection Agency, Global Programs Division (6205J), 1200 Pennsylvania Avenue, NW., Washington, DC, 20460, (202) 564-3514; akhtar.jabeen@epa.gov. You may also visit the Ozone Depletion Web site of EPA's Global Programs Division at http://www.epa.gov/ozone/index.html for further information about EPA's Ozone Protection regulations, the science of ozone depletion, and other topics.

SUPPLEMENTARY INFORMATION: This document concerns amendments to the production and import controls for ozone-depleting substances (ODS). The amendment concerns the addition of a new controlled substance, chlorobromomethane (CBM), to the list of substances already subject to controls related to production, import, export, destruction, transhipment, essential uses, and feedstock uses.

The regulated categories that may be affected by this action include:

Category | SIC | NAICS | Examples of potentially regulated entities
1. Industrial organic chemicals, NEC | 2869 | 325199 | Producers, importers, or exporters of CBM.
2. Pharmaceutical preparations | 2834 | 325412 | Transformers of CBM.
3. Pesticides and agricultural chemicals, NEC | 2879 | 32532 | Transformers of CBM.
4. Chemicals and allied products, NEC | 5169 | 42269 | Lab suppliers of CBM.
5. Testing laboratories, except veterinary testing labs | 8734 | 54138 | Lab users of CBM.
6. Medical and diagnostic laboratories | 8071 | 6215 | Lab users of CBM.
7. Research and development in the physical, engineering and life sciences | 8731 and 8733 | 54171 | Lab users of CBM.

This table is not intended to be exhaustive, but rather provides a guide for readers regarding entities likely to be regulated by this action. This table lists the types of entities that EPA is now aware could potentially be regulated by this action. Other types of entities not listed in this table could also be affected. To determine whether your facility, company, business organization, etc., could be regulated by this action, you should carefully examine the applicability criteria in § 82.1(b) of Title 40 of the Code of Federal Regulations (CFR). If you have any questions regarding the applicability of this action to a particular entity, consult the person listed in the FOR FURTHER INFORMATION CONTACT section.

Table of Contents

I. What Is the Scientific and Legal Background for the Regulations to Phase Out Ozone-Depleting Substances?

II. What Chemicals Are Addressed by Today's Action and How Are They Used?

III. What Are the Elements of the International Agreement To Regulate CBM?

IV. What New U.S. Requirements Will Today's Action Impose?

A. Legal Authority

B. Specific Elements of Today's Action

1. Listing CBM and Controls

2. Ban on Trade With Non-Parties

3. Laboratory Essential Use Exemption

4. Process Agents

5. Recordkeeping and Reporting Requirements

(a) Producers

(b) Importers

(c) Exporters

(d) Destroyers

(e) Transformers

(f) Transhipments and Heels

(g) Laboratory Essential Uses

V. What Other Stratospheric Protection Regulations Will Relate to CBM Following Today's Action?

VI. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination with Indian Tribal Governments

G. Executive Order 13045: Protection of Children from Environmental Health & Safety Risks

H. Executive Order 13211: Actions that Significantly Affect Energy Supply, Distribution, or Use

I. National Technology Transfer Advancement Act

J. Congressional Review Act

I. What Is the Scientific and Legal Background for Regulations To Phase Out Ozone-Depleting Substances?

In response to the body of evidence linking chlorofluorocarbons (CFCs) and other chlorinated and brominated compounds to ozone depletion, the international community reached agreement in 1987 on a landmark treaty. This treaty, the Montreal Protocol on Substances that Deplete the Ozone Layer (“Montreal Protocol” or “Protocol”) was signed by the United States and ratified on April 4, 1988. The Protocol establishes controls on the production and consumption of ozone depleting chemicals.

In the context of the regulatory program, the use of the term consumption may be misleading. Consumption does not mean the “use” of a controlled substance, but rather is defined as the formula: consumption = production + imports −exports, of controlled substances (Article 1 of the Protocol and section 601 of the CAA).

The Clean Air Act Amendments of 1990 direct the EPA to issue regulations to implement the provisions of the Protocol within the United States. Accordingly, EPA developed a scheme of production and consumption controls relative to substances addressed by the Protocol. The current regulatory requirements of the Stratospheric Ozone Protection Program implement the provisions of the Protocol and the Clean Air Act (CAA) by limiting the production and consumption of ozone-depleting substances. These regulatory requirements are codified at subpart A to part 82 of Volume 40 of the Code of Federal Regulations (40 CFR part 82, subpart A). As the control measures of the Protocol have been amended or adjusted, and in consideration of other factors, subpart A has also been amended. For example, following the amendments to the Protocol made at the Fourth Meeting of the Parties in Copenhagen in 1992, a number of changes to the control provisions of subpart A to 40 CFR part 82 were made, including an accelerated phaseout of ODS production and consumption. EPA published a final regulation in December of 1993, implementing the United States' obligation under the Copenhagen amendments (58 FR 65018). Other regulations amending Subpart A include those published on December 20, 1994 (59 FR 65478), May 10, 1995 (60 FR 24970), August 4, 1998 (63 FR 41625), and October 5, 1998 (64 FR 53290).

Although the regulations phased out the production and consumption of class I, Group II substances (halons) on January 1, 1994, and all other class I controlled substances (except methyl bromide) on January 1, 1996, a very limited number of exemptions exist, consistent with U.S. obligations under the Protocol. The regulations allow for the manufacture of phased-out class I controlled substances, provided the substances are either transformed, or destroyed (40 CFR 82.4(b)). They also allow limited manufacture if the substances are (1) exported to countries operating under Article 5 of the Protocol or (2) produced for essential uses as authorized by the Protocol and the regulations.

Limited exceptions to the ban on the import of phased-out class I controlled substances also exist if the substances are: (1) Previously used, (2) imported for essential uses as authorized by the Protocol and 40 CFR part 82, subpart A, (3) imported for destruction or transformation only, or (4) a transhipment (i.e., from one foreign country through the U.S., to another foreign country) or a heel (a small amount of controlled substance remaining in a container after discharge) (40 CFR 82.4(d), 82.13(g)(2)).

II. What Chemicals Are Addressed by Today's Action and How Are They Used?

Today's action will affect only one chemical, chlorobromomethane (CBM).¹ CBM is a chemical compound found in trace quantities in the atmosphere with both natural and man-made sources. The Parties to the Montreal Protocol designated the ozone-depleting potential of CBM as 0.12. This value is consistent with an examination of scientific investigations on this topic, which concluded that an appropriate range for the ODP of CBM is 0.07—0.15 (See 64 FR 22985, 4/18/99).

¹ The terms chlorobromomethane and bromochloromethane are synonymous. They both refer to the chemical, CH2BrCl. Both terms can be found in industry, scientific, and regulatory documents.

The uses of CBM are described in the NPRM published in the Federal Register on October 29, 2002 (67 FR 65916).

III. What Are the Elements of the International Agreement To Regulate CBM?

The NPRM (67 FR 65916, 10/29/02) discussed the Parties' preliminary consideration of CBM as an ozone depleting substance as well as the provisions adopted at the Parties' meeting in Beijing in 1999.

IV. What Are the New U.S. Requirements Imposed by Today's Action?

A. Legal Authority

Several provisions of the CAA provide the legal authority for today's action. Section 602(a) provides EPA with the general authority to list Class I substances. Section 602(a) requires EPA to add to the list of Class I substances those substances that it finds cause or contribute significantly to harmful effects on the stratospheric ozone layer. Section 602(a) also requires the listing of new substances, pursuant to subsection 602(c), that have an ozone-depleting potential of 0.2 or greater. Section 602(c) requires that the Administrator place newly added Class I substances, to the extent consistent with the Montreal Protocol, either into an existing Group or a new Group. Whenever EPA adds a substance to the Class I list, EPA is also required by section 602(e) to assign a numerical value representing the substance's ozone-depleting potential (ODP). Section 602(e) requires this ODP numerical value to be consistent with the Montreal Protocol if such ODP is specified by the Montreal Protocol.

Those substances listed as a Class I (or Class II) substance are then subject to the monitoring and reporting requirements as set forth and implemented under section 603. Section 603(b) requires that on a quarterly basis, or other such basis as EPA may prescribe, a report be filed with EPA regarding the amount of substance(s) produced, imported, and exported during the preceding reporting period.

Section 604 sets forth the general phase-out schedule of Class I substances and exceptions to the phase-out. Section 604(a) requires EPA to promulgate regulations implementing the phase-out schedule for Class I substances set forth in the CAA. The section 604 phaseout date for most Class I substances is January 1, 2000; however, under section 602(d), EPA may establish a later phaseout date for a newly listed substance if the section 604 phaseout date is unattainable, considering when the substance is listed.

Section 614(b) requires that Title VI of the CAA be “construed, interpreted, and applied as a supplement to the terms and conditions of the Montreal Protocol, * * *, and shall not be construed, interpreted, or applied to abrogate the responsibilities of the United States to implement fully the provisions of the Montreal Protocol.” Section 614(b) requires that in the case of any conflict “between any provision of this title and any provision of the Montreal Protocol, the more stringent provision shall govern.” Thus, today's actions list CBM and put in place the phaseout controls consistent with the Montreal Protocol.

B. Specific Elements of Today's Action

EPA received no comments in response to the actions proposed in the NPRM (67 FR 65916, 10/29/02). Therefore, EPA is finalizing these actions as they were proposed.

The effective date for all of today's actions will be 30 days from the date of publication of today's rule in the Federal Register. Under section 604(b) of the CAA, unless otherwise stated, the phaseout date for Class I substances is January 1, 2000. However, pursuant to section 602(d), EPA may establish a later phaseout date for a newly listed substance if the section 604(b) date is unattainable. Because the January 1, 2000 phaseout date is in the past, it is unattainable. Therefore, EPA is establishing a later phaseout date linked to the publication date of the final rule.

Today's effective date takes into consideration that the Beijing Amendments entered-into-force under the Protocol on February 25, 2002, for Parties that have ratified the amendment package. The U.S. Senate gave their advice and consent to the ratification of the Beijing Amendment package on October 9, 2002, but the U.S. must still officially deposit its instrument of ratification with the United Nations. Ninety days following the date the U.S. officially deposits the instrument of ratification for the Beijing Amendment package, the U.S. assumes obligations to comply with the provisions of the Beijing Amendment. Thus, EPA needs to have put in place (prior to the deposit of the instrument of ratification) final regulatory programs that will implement and ensure U.S. compliance with the provisions of the Beijing Amendment package.

1. Listing CBM and Controls

Today's action creates a new Group (Group VIII) of class I substances, places CBM in this new Group, and assigns CBM an ODP of 0.12. Today's action establishes a full ban on CBM production and import. This ban does not apply to the production or import of CBM that is subsequently transformed or destroyed, or to imports of transhipments or heels (see section I). There are no interim phasedown levels; that is, production and import are unrestricted until 30 days after publication of this rule.

Today's action does not allow production for the “basic domestic needs” of Article 5 countries for reasons described in section III B of the NPRM (67 FR 65916, 10/29/02).

If there is a need for CBM for laboratory and analytical uses after the phaseout, a framework exists to allow the inclusion of CBM in the production and import exemption for laboratory and analytical uses, described in greater detail in section IV.B.3 of this Preamble.

2. Ban on Trade with Non-Parties

Today's action also prohibits CBM import from and export to a foreign state that is not a Party to the 1999 Beijing Amendments to the Protocol. In accordance with previously established provisions under the Protocol, current EPA regulations (60 FR 24970; 40 CFR 82.4(l)) prohibit certain class I controlled substances from export to or import from foreign states not Parties to the Montreal Protocol or specific amendment packages to the Protocol (e.g., the London Amendments). With today's action, EPA is adding a new subparagraph, § 82.4(l)(5) regarding a CBM trade ban that will become effective 30 days after the date of publication of today's rule in the Federal Register.

A list of Parties that have ratified the Montreal Protocol and successive amendments to the Protocol is published as Annex 1 in appendix C to subpart A with today's final action. For the purposes of the trade ban in today's action, companies should refer to appendix C to subpart A of part 82 to identify nations that have not yet ratified the Beijing Amendments. CBM imports from or exports to these nations that have not ratified the Beijing Amendments are prohibited. EPA will publish notices on a periodic basis to update this list (appendix C) to reflect when Parties ratify the Montreal Protocol and its amendments. For additional information on countries that have ratified the Protocol and its amendments, visit the website of the United Nations Environment Program (UNEP) Ozone Secretariat at www.unep.org/ozone/ and look for the “Status of Ratification.”

3. Laboratory Essential Use Exemption

Article 21 of the Montreal Protocol allows for the possibility of “essential use” exemptions from the phaseout established for CBM. The Parties have set up a framework for exempting phased out ozone-depleting substances for laboratory and analytical uses under the context of the essential use exemption. EPA has also provided a de minimis exemption for essential laboratory uses of class I ODSs. The criteria identifying exempt applications are specified in appendix G to 40 CFR part 82, subpart A.

The existing framework for exempting laboratory and analytical uses is found in the criteria listed in appendix G of subpart A of 40 CFR part 82. Entities wishing to use the exemption for laboratory and analytical uses for CBM should refer to this criteria, which include purity standards, containment requirements, and recycling and disposal requirements for the substance. No prior approval is needed to use the exemption for continued production and import of CBM, as long as the criteria listed in appendix G of subpart A of 40 CFR part 82 are met and the recordkeeping and reporting requirements specified in 40 CFR 82.13 (v) to (z) of subpart A, which are summarized later in this Preamble, are followed. For further information about the essential use exemption, you may refer to the NPRM (67 FR 65916, 10/29/02).

On February 11, 2002, EPA extended the exemption for laboratory and analytical uses through the year 2005, while eliminating the following uses, consistent with Decision XI/15: (a) Testing of oil, grease and total petroleum hydrocarbons in water; (b) Testing of tar in road-paving materials; and (c) Forensic finger-printing (67 FR 6352). However, it should be noted that the Parties to the Montreal Protocol have not extended the global laboratory and analytical essential-use exemption indefinitely. This issue is further discussed at 66 FR 14767 (3/13/01).

4. Process Agents

Controlled substances produced or imported as process agents are listed in table A of Decision X/14 of the Meetings of the Parties to the Montreal Protocol. Parties may propose additions to the list of controlled substances designated as process agents by sending a detailed proposal to the Ozone Secretariat, which will forward them to the Technology and Economic Assessment Panel (TEAP). The Panel will then investigate the proposed change and make a recommendation to the Parties whether or not the proposed use should be added to the list by decision of the Parties.

In advance of publication of the NPRM (67 FR 65916, 10/29/02), EPA received a letter from one stakeholder requesting that their use of CBM as a solvent in the process of producing a polymer additive be considered a process agent use. Based on information in this letter, EPA determined this company's use of CBM to be exempt from restrictions on controlled substances in 40 CFR part 82, subpart A. EPA submitted a request to the Parties to the Protocol to add this use of CBM to the list of process agents in Table A of Decision X/14 and to change the emissions limit for the United States in Table B to reflect this addition. The TEAP considered this U.S. request regarding the process agent use of CBM and recommended to the Parties its inclusion in Table A of Decision X/14. The Parties are expected to act on the U.S. request during their meeting in the fall of 2003.

5. Recordkeeping and Reporting Requirements

With the designation of CBM as a class I ODS, existing recordkeeping and reporting requirements in 40 CFR 82.13 will apply to production, importation, destruction, transformation, transhipments, export, or essential uses of CBM. Potentially affected parties are urged to consult the relevant regulatory paragraphs in 40 CFR 82.13, subpart A. In addition, guidance and reporting forms for these requirements are available from EPA's Stratospheric Ozone Hotline ((800) 296-1996).

(a) Producers

Entities that produce CBM, as for other class I controlled substances, must submit a report to the EPA Administrator within 120 days of publication of this rule, describing in detail how daily production quantities are measured and recorded, including how fugitive losses are accounted for and the estimated percent efficiency of the production process. These entities must also maintain detailed records pertaining to (i) the quantity of controlled substances produced at each facility and the purposes for which they are produced, used, and sold, with certain written verifications; (ii) quantities of other chemicals produced within each facility and quantities of inputs used in the production of controlled substances; and (iii) shipments of controlled substances produced at each facility. These entities must, in addition, submit a quarterly report identifying quarterly production amounts and amounts sold, transferred, or exported (and specifying amounts transformed or destroyed by the producer or recipient), with appropriate verifications; and a list of the essential-use (including laboratory essential use) allowance holders from whom orders were placed and the quantity of essential-use controlled substances requested and produced, with appropriate verifications. See 40 CFR part 82, subpart A (§ 82.13) for the complete reporting and recordkeeping requirements.

(b) Importers

According to EPA's existing requirements for ODSs, a person may import a used class I controlled substance if they comply with the petition process described in 40 CFR 82.4(j), 40 CFR 82.13(g)(2), and (3), and the revisions to this process published in a final rule in the Federal Register on December 31, 2002 (67 FR 79861), entitled “Protection of Stratospheric Ozone: Additional Reconsideration of Petition Criteria and Incorporation of Montreal Protocol Decisions.” Under the Protocol and the CAA, the import of “used controlled substances” does not count against a country's obligation to completely phase out import. Therefore, with the listing of CBM as a class I controlled substance, an importer of used, recycled, or reclaimed CBM is subject to the requirements specified in these sections. Specifically, importers of used, recycled, or reclaimed controlled substances and transshipments would need to fulfill the import petition process.

The revised petition process for Class I substances (67 FR 79861, 12/31/02) now requires that for each individual shipment of greater than five lbs, at least 40 working days before the shipment leaves the foreign port of export, the importer must submit to EPA a petition including the identity and quantity of the controlled substance; information pertaining to the source, foreign owner, and exporter of the controlled substance, information regarding the previous use and identity of any domestic or foreign reclaimer; information on the equipment from which the substance was recovered at each source, information on import port of entry, vessel, and dates of shipment; the intended use of the controlled substance, an export license from the appropriate government agency in the country of export, and certification of the accuracy of the information included in the petition.

Entities that import CBM are also subject to the standard recordkeeping and reporting requirements for importers of class I substances. These include the requirement to maintain detailed records of the quantity of each controlled substance, including information and documentation pertaining to the amounts that may be in mixtures, that are used, recycled or reclaimed, that are for use or sold for use in processing resulting in their transformation or destruction, and that are imported for essential uses; and including documentation and/or certification relating to port of entry, country from which the substance was imported, bill of lading, the U.S. customs entry form, and intended use of the imported substance. Such entities must also submit to EPA a quarterly report summarizing the records described above and including certifications regarding the intended use of controlled substances (e.g., transformation, destruction, essential uses). In the case of imports of used (including recycled or reclaimed) controlled substances, or heels of controlled substances, bills of lading or invoices must be labeled, indicating that the controlled substance is used, recycled, reclaimed, or a heel, as appropriate. See 40 CFR part 82, subpart A (§ 82.13) for complete reporting and recordkeeping requirements.

(c) Exporters

Exporters of CBM, as for other class I controlled substances, must submit information within 45 days after the end of the control period, including the names and addresses of the exporter and the recipient of the exports, the type and quantity of the controlled substances exported, percentage which is used, recycled, or reclaimed, date/port of export, amount exported to Article 5 countries, and documentation or certification relating to purchaser's or importer's intent to transform or destroy the controlled substance. Exporters of class I controlled substances must also label, in the case of exports of used (including recycled or reclaimed) controlled substance, bills of lading or invoices, indicating that the controlled substance is used, recycled, or reclaimed. See 40 CFR part 82, subpart A (§ 82.13) for the complete reporting and recordkeeping requirements.

(d) Destroyers

Entities that destroy CBM, as with other class I controlled substances, must submit a one-time report stating the destruction unit's efficiency and the methods used to determine destruction efficiency and to record the volume destroyed. Changes to these methods must be reported within 60 days of the change. The report must also include names of other regulations applicable to the destruction process. Such entities must also provide the producer or importer from whom they purchased or received the controlled substances with a verification that controlled substances will be used in processes that result in their destruction. Destroyers of class I controlled substances must also report the names and quantities of class I controlled substances destroyed for each control period within 45 days of the end of the control period. See 40 CFR part 82, subpart A (§ 82.13) for the complete reporting and recordkeeping requirements.

(e) Transformers

Entities that transform CBM, as for other class I controlled substances, must provide the producer or importer of the controlled substances the IRS certification that the controlled substances are to be used in processes resulting in their transformation, and report the names and quantities of class I controlled substances transformed for each control period within 45 days of the end of the control period. See 40 CFR part 82, subpart A (§ 82.13) for the complete reporting and recordkeeping requirements.

(f) Transhipments and Heels

Entities that bring back a container with a heel of CBM to the United States must report quarterly the amount brought into the United States, certifying that the residual amount in each shipment is less than 10% of the volume of the container and will remain in the container and be included in a future shipment, be recovered and transformed or destroyed, or be recovered for a non-emissive use. They must also report on the final disposition of each shipment within 45 days of the end of the control period. Entities that transship a controlled substance must maintain records that indicate that the controlled substance shipment originated in a foreign country destined for another foreign country, and does not enter interstate commerce with the United States.

(g) Laboratory Essential Uses

CBM that is to be used in laboratory applications is exempted from the ban in the same manner that all other Class I ODSs are exempted for laboratory uses. Laboratory distributors who sell CBM under this exemption are subject to the reporting requirements outlined in 40 CFR part 82, subpart A (§ 82.13). These reporting requirements are as follows: Laboratory distributors/suppliers must report quarterly the quantity received of each class I controlled substance from each producer or importer. Distributors must also keep on record certifications from customers who purchase CBM (or any Class I ODS) stating that the CBM will only be used in laboratory applications defined in 40 CFR part 82, subpart A (§ 82.13), appendix G. (Laboratory customers purchasing a controlled substance under the global laboratory essential-use exemption must provide the producer, importer or distributor with a one-time-per-year certification for each controlled substance that the substance will only be used for laboratory applications and not be resold or used in manufacturing). Distributors must report quarterly the quantity of the controlled substance purchased by each laboratory customer. If the controlled substances are only sold as reference standards for calibrating laboratory analytical equipment, the distributor may write a letter to the EPA Administrator requesting permission to submit these reports annually rather than quarterly. See 40 CFR part 82, subpart A (§ 82.13) for complete reporting and recordkeeping requirements.

V. What Other Stratospheric Protection Regulations Will Relate to CBM Following Today's Action?

A regulation originally published on February 11, 1993 (58 FR 8136) and amended at 60 FR 4020 (January 19, 1995) establishes requirements pertaining to labeling of products containing or made with ozone-depleting substances. The text of that regulation (as well as Fact Sheets about it) can be found at the following Web site: http://www.epa.gov/ozone/title6/labeling/labeling.html. The labeling requirements apply to products manufactured with, containers of, and products containing specific ozone-depleting substances pursuant to section 611 of the CAA. Specifically, the regulations require products that are manufactured with a process using a class I substance; products containing a class I substance; and containers of a class I or class II (hydrochlorofluorocarbons (HCFCs)) substance or mixture to bear a “clearly legible and conspicuous” warning statement. Manufacturers, distributors, wholesalers, and retailers of products manufactured with, containers of, and products containing CBM are therefore required to comply with the labeling requirements which would become applicable to CBM one year after its final listing as a class I ODS; See 40 CFR part 82, subpart E.

VI. Statutory and Executive Order Reviews

A. Executive Order 12866: Regulatory Planning and Review

Under Executive Order 12866 (58 FR 51735, October 4, 1993), the Agency must determine whether this regulatory action is “significant” and therefore subject to OMB review and the requirements of the Executive Order. The Order defines a “significant” regulatory action as one that is likely to result in a rule that may:

(1) Have an annual effect on the economy of $100 million or more, or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

It has been determined that this rule is not a “significant regulatory action” under the terms of Executive Order 12866 and is therefore not subject to OMB review.

B. Paperwork Reduction Act

The information collection requirements in this rule have been approved by the Office of Management and Budget (OMB) (OMB Control Number 2060-0170) under the Paperwork Reduction Act, 44 U.S.C. 3501 et seq. An Information Collection Request (ICR) document has been prepared by EPA (ICR No. 1432.22) and a copy may be obtained from Susan Auby by mail at Collection Strategies Division; U.S. Environmental Protection Agency (2822T); 1200 Pennsylvania Ave., NW., Washington, DC 20460, by email at auby.susan @epa.gov, or by calling (202) 566-1672. A copy may also be downloaded off the Internet at http://www.epa.gov/icr.

As explained in EPA's ICR document, EPA's Office of Air and Radiation is revising the previously approved information collection by the same title.² Today's action imposes new recordkeeping and reporting requirements associated with the production, import, export, recycling, destruction, transhipment, and feedstock use of CBM. Specifically, producers, importers, and exporters will be required to submit to EPA quarterly reports of the quantity of CBM in each of their transactions; they will also be required to report the quantity of CBM transformed or destroyed. Producers, importers, and exporters of CBM must also maintain records such as Customs entry forms, bills of lading, sales records, and canceled checks to support their quarterly reports. The quarterly reports may be faxed or mailed to EPA, where they will be handled as confidential business information. EPA will store the submitted information in a computerized database designed to track production, import, and export balances and transfer activities. EPA is currently exploring the possibility of having reports filed and submitted to the Agency over a secure Web site. If and when electronic reporting would occur, EPA would change its guidance document and its ICR to indicate a change in burden hours. EPA will use the information to ensure that the U.S. maintains compliance with the Protocol requirements and to report annually to United Nations Environment Programme the U.S. activity in CBM. EPA will store the submitted information in a computer system designed to track production, import, and export balances and transfer activities. EPA estimates that the information collection will involve approximately 133 respondents: 2 producers, 2 exporters, 8 importers, 100 laboratory certifiers, 8 transformers and destroyers, 6 essential use allowance holders, 2 laboratory suppliers, and 5 laboratory suppliers (reference standards). The total annual industry burden and cost are estimated at 2,580 hours and $201,350, of which $3,000 are annual operating and maintenance (O&M) costs.

² On March 5, 2001, the Office of Management and Budget (OMB) approved EPA's request for the extension of approval of this ICR. The request for extension was submitted by EPA on November 29, 2000. With that approval, OMB stated that it “understands that EPA is in the process of developing several rules that would result in revisions to this collection * * * EPA will need to revise this collection as part of those rulemaking processes.” This ICR revision is one such revision.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An Agency may not conduct or sponsor, and a person is not required to respond to, a collection of information unless it displays a currently valid OMB control number. The OMB control numbers for EPA's regulations are listed in 40 CFR part 9 and 48 CFR chapter 15. Comments were requested on the Agency's need for this information, the accuracy of the provided burden estimates, and any suggested methods for minimizing respondent burden, including through the use of automated collection techniques. No comments were received.

C. Regulatory Flexibility Act

EPA has determined that it is not necessary to prepare a regulatory flexibility analysis in connection with this final rule. EPA has also determined that this rule will not have a significant economic impact on a substantial number of small entities. For purposes of assessing the impact of today's rule on small entities, small entities are defined as: (1) A small business that is identified by the North American Industry Classification System (NAICS) code, in the Table below; (2) a small governmental jurisdiction that is a government of a city, county, town, school district or special district with a population of less than 50,000; and (3) a small organization that is any not-for-profit enterprise which is independently owned and operated and is not dominant in its field. The size standards described in this section apply to all Small Business Administration (SBA) programs unless otherwise specified. The size standards themselves are expressed either in number of employees or annual receipts in millions of dollars, unless otherwise specified. The number of employees or annual receipts indicates the maximum allowed for a concern and its affiliates to be considered small.

Category | SIC code | NAICS code | SIC small business size standard (in number of employees or millions of dollars)
1. Industrial organic chemicals, NEC | 2869 | 325199 | 1,000
2. Pharmaceutical preparations | 2834 | 325412 | 750
3. Pesticides and agricultural chemicals, NEC | 2879 | 32532 | 500
4. Chemicals and allied products, NEC | 5169 | 42269 | 100
5. Testing laboratories, except veterinary testing labs | 8734 | 54138 | $5.0
6. Medical and diagnostic laboratories | 8071 | 6215 | $5.0
7. Research and development in the physical, engineering and life sciences | 8731 and 8733 | 54171 | $5.0

After considering the economic impacts of today's final rule on small entities, EPA has concluded that this action will not have a significant economic impact on a substantial number of small entities. The only small entities that will be impacted by the recordkeeping and reporting requirements of this rule are laboratories. We have determined that about 100 laboratories (only a portion of which are owned by small entities) will experience an annual estimated impact of $7,688 due to the reporting and recordkeeping requirements described in 40 CFR part 82, subpart A (§ 82.13).

In addition to the recordkeeping and reporting requirements, today's action bans the production and import of CBM. There are only 2 known producers of CBM in the United States. These are large, multinational corporations and not small entities. In addition, informal discussions with these producers indicate that virtually all of their CBM production is for customers who transform CBM; this production is not subject to the CBM phaseout implemented by today's action.

Regarding import, EPA records indicate that during the years 1995-1999 (the years for which data were available), 22 companies had imported CBM during one or more years. Of these, 16 had imported CBM in only one of the 5 years of record. Informal discussions with the primary importer (responsible for 77% of the imported CBM) indicate that 80-85% of their imports are for transformation. Thus, the impacts of today's action on CBM importers will also be limited (providing that import is from countries that are Parties to or in compliance with the Beijing Amendments).

Although this final rule will not have a significant economic impact on a substantial number of small entities, EPA nonetheless has tried to reduce the impact of this rule on small entities. Laboratories will only be required to certify purchases of CBM one time per year, in which they must indicate their use of CBM will only be used for laboratory or analytical purposes and identify the specific use to which the substance will be put. This requirement is to ensure proper use of exempted production and import and allow the U.S. to report specific information to the Montreal Protocol under Annex II of Decision VI/9. EPA received no comment on the NPRM (67 FR 65916, 10/29/02) regarding impact on laboratories.

EPA conducted outreach to consult with and notified the potentially affected community of today's action. EPA sent letters on February 28, 2001, and again on April 25, 2000, to all importers for which addresses could be found, as well as other identified entities that may be impacted by this rule, notifying them of EPA's anticipated implementation of the 1999 Beijing Amendments to the Montreal Protocol, including the ban on production and import, and new recordkeeping and reporting requirements. EPA received no adverse concern by any recipient of the letters.

D. Unfunded Mandates Reform Act

Title II of the Unfunded Mandates Reform Act of 1995 (UMRA), Public Law 104-4, establishes requirements for Federal agencies to assess the effects of their regulatory actions on State, local, and tribal governments and the private sector.

Under section 202 of the UMRA, EPA generally must prepare a written statement, including a cost-benefit analysis, for proposed and final rules with “Federal mandates” that may result in expenditures to State, local, and tribal governments, in the aggregate, or to the private sector, of $100 million or more in any one year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted.

Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

EPA has determined that this rule does not contain a Federal mandate that may result in expenditures of $100 million or more for State, local, and tribal governments, in the aggregate, or the private sector in any one year. Today's ban on production and import is expected to have minimal economic impact because production and import for feedstock uses (which represent the majority of current production and import uses) are exempt from the ban. Furthermore, CBM use has been largely curtailed by prior environmental and safety regulations in the fire protection, explosion suppression, and solvent sectors. Therefore the ban of CBM is not expected to significantly affect the regulated community.

Based upon research and information available to EPA at this time, EPA understands that the regulated community directly impacted by today's action is restricted in size. Potentially regulated entities include entities that produce, export, or import CBM; entities that use CBM in a process that results in its transformation or destruction; entities that are laboratory suppliers of CBM; and entities with laboratory uses of CBM. For all of these entities, there would be new recordkeeping and reporting requirements imposed by today's action, but these are estimated to be minimal (approximately a total for the industry of $200,000 per year; see VII.B. for explanation of this estimate).

Thus, today's rule is not subject to the requirements of sections 202 or 205 of the UMRA. EPA has also determined that this rule contains no regulatory requirements that might significantly or uniquely affect small governments; therefore, we are not required to develop a plan with regard to small governments under section 203.

E. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This final rule will not have federalism implications. It will not have substantial direct effects on the States, on the relationship between the national government and the States, or on the distribution of power and responsibilities among the various levels of government, as specified in Executive Order 13132.

Today's rule is expected to primarily affect private sector entities that either produce, import, export, transform, or use or supply CBM for laboratory purposes. EPA is not aware of any current uses of CBM by public sector entities. Thus, Executive Order 13132 does not apply to this rule.

F. Executive Order 13175: Consultation and Coordination with Indian Tribal Governments

Executive Order 13175, entitled “Consultation and Coordination with Indian Tribal Governments” (65 FR 67249, November 9, 2000), requires EPA to develop an accountable process to ensure “meaningful and timely input by tribal officials in the development of regulatory policies that have tribal implications.”

This final rule does not have tribal implications, as specified in Executive Order 13175. It will not have substantial direct effects on tribal governments, on the relationship between the Federal government and Indian tribes, or on the distribution of power and responsibilities between the Federal government and Indian tribes, as specified in Executive Order 13175.

Today's rule is expected to primarily affect private sector entities that either produce, import, export, transform, or use or supply CBM for laboratory purposes. EPA is not aware of any current uses of CBM by tribal governments or their communities. Thus, Executive Order 13175 does not apply to this rule.

In the spirit of Executive Order 13175, and consistent with EPA policy to promote communications between EPA and tribal governments, EPA specifically solicited additional comment on this rule from tribal officials. No comments were received.

G. Executive Order 13045: Protection of Children From Environmental Health and Safety Risks

Executive Order 13045: “Protection of Children from Environmental Health Risks and Safety Risks” (62 FR 19885, April 23, 1997) applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

EPA interprets Executive Order 13045 as applying only to those regulatory actions that are based on health or safety risks, such that the analysis required under section 5-501 of the Order has the potential to influence the regulation.

This final rule is not subject to the Executive Order because it is not economically significant as defined in Executive Order 12866, and because the Agency does not have reason to believe the environmental health or safety risks addressed by this action present a disproportionate risk to children. This rule implements an obligation of the United States to implement fully the provisions of the Montreal Protocol and is not directly based on health or safety risks.

H. Executive Order 13211: Action That Significanty Energy Supply, Distribution, or Use

This rule is not subject to Executive Order 13211, “Actions Concerning Regulations that Significantly Affect Energy Supply, Distribution, or Use,” (66 FR 28355 (May 22, 2001)) because it is not a significant regulatory action under Executive Order 12866.

I. National Technology Transfer Advancement Act

As noted in the proposed rule, section 12(d) of the National Technology Transfer and Advancement Act of 1995 (“NTTAA”), Public Law 104-113, section 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards. This action does not involve technical standards. Therefore, EPA did not consider the use of any voluntary consensus standards.

J. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective October 16, 2003.

List of Subjects in 40 CFR Part 82

Environmental protection, Administrative practice and procedure, Air pollution control, Chemicals, Exports, Government procurement, Imports, Labeling, Reporting and recordkeeping requirements .

Dated: July 11, 2003.
Christine Todd Whitman,
Acting Administrator.

For reasons set out in the preamble, 40 CFR part 82 is amended as follows:

PART 82—PROTECTION OF STRATOSPHERIC OZONE

1. The authority citation for part 82 continues to read as follows:

Authority: 42 U.S.C. 7414, 7601, 7671-7671q.

Subpart A—Production and Consumption Controls

2. Section 82.3 is amended by:

a. Adding in alphabetical order the definition of Beijing Amendments.

b. Revising the last sentence in the definition of Controlled substances.

The revision and addition read as follows:

§ 82.3 Definitions.

* * * * *

Beijing Amendments means the Montreal Protocol, as amended at the Eleventh Meeting of the Parties to the Montreal Protocol in Beijing in 1999.

* * * * *

Controlled substance * * * Class I substances are further divided into eight groups, Group I, Group II, Group III, Group IV, Group V, Group VI, Group VII, and Group VIII, as set forth in appendix A to this subpart.

* * * * *

3. Section 82.4 is amended by:

a. Revising the first sentence of paragraph (b),

b. Revising the first sentence of paragraph (d),

c. Adding paragraph (l)(5).

The revisions and addition read as follows:

§ 82.4 Prohibitions.

* * * * *

(b) Effective January 1, 1996, for any class I, Group I, Group II, Group III, Group IV, Group V, or Group VII controlled substances, and effective January 1, 2005, for any class I, Group VI controlled substance, and effective August 18, 2003, for any class I, Group VIII controlled substance, no person may produce, at any time in any control period, (except that are transformed or destroyed domestically or by a person of another Party) in excess of the amount of conferred unexpended essential-use allowances or exemptions under this section, or the amount of unexpended Article 5 allowances as allocated under § 82.9 for that substance held by that person under the authority of this subpart at that time for that control period. ***

* * * * *

(d) Effective January 1, 1996, for any class I, Group I, Group II, Group III, Group IV, Group V, or Group VII controlled substances, and effective January 1, 2005, for any class I, Group VI controlled substance, and effective August 18, 2003, for any class I, Group VIII controlled substance, no person may import (except for transhipments or heels), at any time in any control period, (except for controlled substances that are transformed or destroyed) in excess of the amount of unexpended essential-use allowances or exemptions as allocated under this section for that substance held by that person under the authority of this subpart at that time for that control period. * * *

* * * * *

(l) * * *

(5) Import or export any quantity of a controlled substance listed in Class I, Group VIII, in appendix A to this subpart, from or to any foreign state not Party to the Beijing Amendments (as noted in appendix C, Annex 1, to this subpart), unless that foreign state is complying with the Beijing Amendments (as noted in appendix C, Annex 2, to this subpart).

* * * * *

4. Section 82.13 is amended by:

a. Revising paragraph (a).

b. Revising paragraph (f)(1) introductory text.

The revisions read as follows:

§ 82.13 Recordkeeping and reporting requirements.

(a) Unless otherwise specified, the recordkeeping and reporting requirements set forth in this section take effect on January 1, 1995. For class I, Group VIII controlled substances, the recordkeeping and reporting requirements set forth in this section take effect on August 18, 2003.

* * * * *

(f) * * *

(1) Within 120 days of May 10, 1995, or within 120 days of the date that a producer first produces a class I controlled substance, whichever is later, and within 120 days of July 18, 2003 for class I, Group VIII controlled substances, every producer who has not already done so must submit to the Administrator a report describing:

* * * * *

5. Appendix A to subpart A is amended by adding paragraph H to read as follows:

Appendix A to Subpart A of Part 82—Class 1 Controlled Substances

Class 1 controlled substances ODP

* * * * *

H. Group VIII:

CH2BrCl (Chlorobromomethane 0.12

6. Appendix C to subpart A is revised to read as follows:

Appendix C to Subpart A of Part 82—Parties to the Montreal Protocol, and Nations Complying With, But Not Parties to, the Protocol

Annex 1 to Appendix C of Subpart A—Parties to the Montreal Protocol (as of April 11, 2003)

The check mark [✓] means the particular country ratified the Protocol or the specific Amendment package. Amendment packages are identified by the name of the city where the amendment package was negotiated and agreed. Updated lists of Parties to the Protocol and the Amendments can be located at: www.unep.org/ozone/ratif.shtml.

Foreign State | Montreal protocol | London amendment | Copenhagen amendments | Montreal amendments | Beijing amendments
Albania | ✓ |  |  |  |
Algeria | ✓ | ✓ | ✓ |  |
Angola | ✓ |  |  |  |
Antigua and Barbuda | ✓ | ✓ | ✓ | ✓ |
Argentina | ✓ | ✓ | ✓ | ✓ |
Armenia | ✓ |  |  |  |
Australia | ✓ | ✓ | ✓ | ✓ |
Austria | ✓ | ✓ | ✓ | ✓ |
Azerbaijan | ✓ | ✓ | ✓ | ✓ |
Bahamas | ✓ | ✓ | ✓ |  |
Bahrain | ✓ | ✓ | ✓ | ✓ |
Bangladesh | ✓ | ✓ | ✓ | ✓ |
Barbados | ✓ | ✓ | ✓ | ✓ | ✓
Belarus | ✓ | ✓ |  |  |
Belgium | ✓ | ✓ | ✓ |  |
Belize | ✓ | ✓ | ✓ |  |
Benin | ✓ | ✓ | ✓ |  |
Bolivia | ✓ | ✓ | ✓ | ✓ |
Bosnia and Herzegovina | ✓ |  |  |  |
Botswana | ✓ | ✓ | ✓ |  |
Brazil | ✓ | ✓ | ✓ |  |
Brunei Darussalam | ✓ |  |  |  |
Bulgaria | ✓ | ✓ | ✓ | ✓ | ✓
Burkina Faso | ✓ | ✓ | ✓ | ✓ | ✓
Burundi | ✓ | ✓ | ✓ | ✓ | ✓
Cambodia | ✓ |  |  |  |
Cameroon | ✓ | ✓ | ✓ |  |
Canada | ✓ | ✓ | ✓ | ✓ | ✓
Cape Verde | ✓ | ✓ | ✓ | ✓ |
Central African Republic | ✓ |  |  |  |
Chad | ✓ | ✓ | ✓ | ✓ |
Chile | ✓ | ✓ | ✓ | ✓ | ✓
China | ✓ | ✓ |  |  |
Colombia | ✓ | ✓ | ✓ |  |
Comoros | ✓ | ✓ | ✓ | ✓ | ✓
Congo | ✓ | ✓ | ✓ | ✓ | ✓
Congo, Democratic Republic of | ✓ | ✓ | ✓ |  |
Costa Rica | ✓ | ✓ | ✓ |  |
Cote d'Ivoire | ✓ | ✓ |  |  |
Croatia | ✓ | ✓ | ✓ | ✓ | ✓
Cuba | ✓ | ✓ | ✓ |  |
Cyprus | ✓ | ✓ |  |  |
Czech Republic | ✓ | ✓ | ✓ | ✓ | ✓
Denmark | ✓ | ✓ | ✓ |  |
Djibouti | ✓ | ✓ | ✓ | ✓ |
Dominica | ✓ | ✓ |  |  |
Dominican Republic | ✓ | ✓ | ✓ |  |
Ecuador | ✓ | ✓ | ✓ |  |
Egypt | ✓ | ✓ | ✓ | ✓ |
El Salvador | ✓ | ✓ | ✓ | ✓ |
Equatorial Guinea |  |  |  |  |
Estonia | ✓ | ✓ | ✓ | ✓ |
Ethiopia | ✓ |  |  |  |
European Community | ✓ | ✓ | ✓ | ✓ | ✓
Federated States of Micronesia | ✓ | ✓ | ✓ | ✓ | ✓
Fiji | ✓ | ✓ | ✓ |  |
Finland | ✓ | ✓ | ✓ | ✓ | ✓
France | ✓ | ✓ | ✓ |  |
Gabon | ✓ | ✓ | ✓ | ✓ | ✓
Gambia | ✓ | ✓ |  |  |
Georgia | ✓ | ✓ | ✓ | ✓ |
Germany | ✓ | ✓ | ✓ | ✓ | ✓
Ghana | ✓ | ✓ | ✓ |  |
Greece | ✓ | ✓ | ✓ |  |
Grenada | ✓ | ✓ | ✓ | ✓ |
Guatemala | ✓ | ✓ | ✓ | ✓ | ✓
Guinea | ✓ | ✓ |  |  |
Guinea Bissau | ✓ | ✓ | ✓ | ✓ | ✓
Guyana | ✓ | ✓ | ✓ | ✓ |
Haiti | ✓ | ✓ | ✓ | ✓ |
Honduras | ✓ | ✓ | ✓ |  |
Hungary | ✓ | ✓ | ✓ | ✓ | ✓
Iceland | ✓ | ✓ | ✓ | ✓ |
India | ✓ | ✓ | ✓ | ✓ | ✓
Indonesia | ✓ | ✓ | ✓ |  |
Iran, Islamic | ✓ | ✓ | ✓ | ✓ |
Ireland | ✓ | ✓ | ✓ |  |
Israel | ✓ | ✓ | ✓ |  |
Italy | ✓ | ✓ | ✓ | ✓ |
Jamaica | ✓ | ✓ | ✓ |  |
Japan | ✓ | ✓ | ✓ | ✓ | ✓
Jordan | ✓ | ✓ | ✓ | ✓ | ✓
Kazakhstan | ✓ | ✓ |  |  |
Kenya | ✓ | ✓ | ✓ | ✓ |
Kiribati | ✓ |  |  |  |
Korea, Democratic People's Republic of | ✓ | ✓ | ✓ | ✓ | ✓
Korea, Republic of | ✓ | ✓ | ✓ | ✓ |
Kuwait | ✓ | ✓ | ✓ |  |
Kyrgyzstan | ✓ |  |  |  |
Lao, People's Democratic Republic | ✓ |  |  |  |
Latvia | ✓ | ✓ | ✓ | ✓ |
Lebanon | ✓ | ✓ | ✓ | ✓ |
Lesotho | ✓ |  |  |  |
Liberia | ✓ | ✓ | ✓ |  |
Libyan Arab Jamahiriya | ✓ | ✓ |  |  |
Liechtenstein | ✓ | ✓ | ✓ |  |
Lithuania | ✓ | ✓ | ✓ |  |
Luxembourg | ✓ | ✓ | ✓ | ✓ | ✓
Madagascar | ✓ | ✓ | ✓ | ✓ | ✓
Malawi | ✓ | ✓ | ✓ |  |
Malaysia | ✓ | ✓ | ✓ | ✓ | ✓
Maldives | ✓ | ✓ | ✓ | ✓ | ✓
Mali | ✓ | ✓ | ✓ | ✓ |
Malta | ✓ | ✓ |  |  |
Marshall Islands | ✓ | ✓ | ✓ | ✓ |
Mauritania | ✓ |  |  |  |
Mauritius | ✓ | ✓ | ✓ | ✓ | ✓
Mexico | ✓ | ✓ | ✓ |  |
Moldova | ✓ | ✓ | ✓ |  |
Monaco | ✓ | ✓ | ✓ | ✓ | ✓
Mongolia | ✓ | ✓ | ✓ | ✓ |
Morocco | ✓ | ✓ | ✓ |  |
Mozambique | ✓ | ✓ | ✓ |  |
Myanmar | ✓ | ✓ |  |  |
Namibia | ✓ | ✓ |  |  |
Nauru | ✓ |  |  |  |
Nepal | ✓ | ✓ |  |  |
Netherlands | ✓ | ✓ | ✓ | ✓ | ✓
New Zealand | ✓ | ✓ | ✓ | ✓ | ✓
Nicaragua | ✓ | ✓ | ✓ |  |
Niger | ✓ | ✓ | ✓ | ✓ |
Nigeria | ✓ | ✓ | ✓ | ✓ |
Norway | ✓ | ✓ | ✓ | ✓ | ✓
Oman | ✓ | ✓ | ✓ |  |
Pakistan | ✓ | ✓ | ✓ |  |
Palau | ✓ | ✓ | ✓ | ✓ | ✓
Panama | ✓ | ✓ | ✓ | ✓ | ✓
Papua New Guinea | ✓ | ✓ |  |  |
Paraguay | ✓ | ✓ | ✓ | ✓ |
Peru | ✓ | ✓ | ✓ |  |
Philippines | ✓ | ✓ | ✓ |  |
Poland | ✓ | ✓ | ✓ | ✓ |
Portugal | ✓ | ✓ | ✓ |  |
Qatar | ✓ | ✓ | ✓ |  |
Romania | ✓ | ✓ | ✓ | ✓ |
Russian Federation | ✓ | ✓ |  |  |
Rwanda | ✓ |  |  |  |
Saint Kitts & Nevis | ✓ | ✓ | ✓ | ✓ |
Saint Lucia | ✓ | ✓ | ✓ | ✓ | ✓
Saint Vincent and the Grenadines | ✓ | ✓ | ✓ |  |
Samoa | ✓ | ✓ | ✓ | ✓ | ✓
Sao Tome and Principe | ✓ | ✓ | ✓ | ✓ | ✓
Saudi Arabia | ✓ | ✓ | ✓ |  |
Senegal | ✓ | ✓ | ✓ | ✓ |
Seychelles | ✓ | ✓ | ✓ | ✓ | ✓
Sierra Leone | ✓ | ✓ | ✓ | ✓ | ✓
Singapore | ✓ | ✓ | ✓ | ✓ |
Slovakia | ✓ | ✓ | ✓ | ✓ | ✓
Slovenia | ✓ | ✓ | ✓ | ✓ | ✓
Solomon Island | ✓ | ✓ | ✓ | ✓ |
Somalia | ✓ | ✓ | ✓ | ✓ | ✓
South Africa | ✓ | ✓ | ✓ |  |
Spain | ✓ | ✓ | ✓ | ✓ | ✓
Sri Lanka | ✓ | ✓ | ✓ | ✓ | ✓
Sudan | ✓ | ✓ | ✓ |  |
Suriname | ✓ |  |  |  |
Swaziland | ✓ |  |  |  |
Sweden | ✓ | ✓ | ✓ | ✓ | ✓
Switzerland | ✓ | ✓ | ✓ | ✓ | ✓
Syrian Arab Republic | ✓ | ✓ | ✓ | ✓ |
Tajikistan | ✓ | ✓ |  |  |
Tanzania, United Republic of | ✓ | ✓ | ✓ | ✓ | ✓
Thailand | ✓ | ✓ | ✓ |  |
The Former Yugoslav Republic of Macedonia | ✓ | ✓ | ✓ | ✓ | ✓
Togo | ✓ | ✓ | ✓ | ✓ | ✓
Tonga | ✓ |  |  |  |
Trinidad and Tobago | ✓ | ✓ | ✓ | ✓ |
Tunisia | ✓ | ✓ | ✓ | ✓ |
Turkey | ✓ | ✓ | ✓ |  |
Turkmenistan | ✓ | ✓ |  |  |
Tuvalu | ✓ | ✓ | ✓ | ✓ |
Uganda | ✓ | ✓ | ✓ | ✓ |
Ukraine | ✓ | ✓ | ✓ |  |
United Arab Emirates | ✓ |  |  |  |
United Kingdom | ✓ | ✓ | ✓ | ✓ | ✓
United States of America | ✓ | ✓ | ✓ |  |
Uruguay | ✓ | ✓ | ✓ | ✓ |
Uzbekistan | ✓ | ✓ | ✓ |  |
Vanuatu | ✓ | ✓ | ✓ |  |
Venezuela | ✓ | ✓ | ✓ | ✓ |
Viet Nam | ✓ | ✓ | ✓ |  |
Yemen | ✓ | ✓ | ✓ | ✓ |
Yugoslavia | ✓ |  |  |  |
Zambia | ✓ | ✓ |  |  |
Zimbabwe | ✓ | ✓ | ✓ |  |

Annex 2 to Appendix C of Subpart A—Nations Complying With, But Not Parties to, the Protocol [Reserved]

7. Appendix F to subpart A is amended by:

a. Removing entries F and G,

b. Under A. Class I: by adding entries 6, 7, and 8.

The additions read as follows:

Appendix F to Subpart A—Listing of Ozone Depleting Chemicals

Controlled substance | ODP | AT L | CLP | BLP
A. Class I
* * * * * * *
6. Group VI:
CH3Br-Bromomethane (Methyl Bromide) | 0.7 |  | [Reserved] |
7. Group VII:
CHFBr2- | 1.00 |  | [Reserved] |
CHF2Br-(HBFC-22B1) | 0.74 |  | [Reserved] |
CH2FBr | 0.73 |  | [Reserved] |
C2HFBr4 | 0.3-0.8 |  | [Reserved] |
C2HF2Br3 | 0.5-1.8 |  | [Reserved] |
C2HF3Br2 | 0.4-16 |  | [Reserved] |
C2HF4Br | 0.7-1.2 |  | [Reserved] |
C2H2FBr3 | 0.1-1.1 |  | [Reserved] |
C2H2F2Br2 | 0.2-1.5 |  | [Reserved] |
C2H2F3Br | 0.7-1.6 |  | [Reserved] |
C2H3FBr2 | 0.1-1.7 |  | [Reserved] |
C2H3F2Br | 0.2-1.1 |  | [Reserved] |
C2H4FBr | 0.07-0.1 |  | [Reserved] |
C3HFBr6 | 0.3-1.5 |  | [Reserved] |
C3HF2Br5 | 0.2-1.9 |  | [Reserved] |
C3HF3Br4 | 0.3-1.8 |  | [Reserved] |
C3HF4Br3 | 0.5-2.2 |  | [Reserved] |
C3HF5Br2 | 0.9-2.0 |  | [Reserved] |
C3HF6Br | 0.7-3.3 |  | [Reserved] |
C3H2FBr5 | 0.1-1.9 |  | [Reserved] |
C3H2F2Br4 | 0.2-2.1 |  | [Reserved] |
C3H2F3Br3 | 0.2-5.6 |  | [Reserved] |
C3H2F4Br2 | 0.3-7.5 |  | [Reserved] |
C3H2F5Br | 0.9-1.4 |  | [Reserved] |
C3H3FBR4 | 0.08-1.9 |  | [Reserved] |
C3H3F2Br3 | 0.1-3.1 |  | [Reserved] |
C3H3F3Br2 | 0.1-2.5 |  | [Reserved] |
C3H3F4Br | 0.3-4.4 |  | [Reserved] |
C3H4FBr3 | 0.03-0.3 |  | [Reserved] |
C3H4F2Br2 | 0.1-1.0 |  | [Reserved] |
C3H4F3Br | 0.07-0.8 |  | [Reserved] |
C3H5FBr2 | 0.04-0.4 |  | [Reserved] |
C3H5F2Br | 0.07-0.8 |  | [Reserved] |
C3H6FB | 0.02-0.7 |  | [Reserved] |
8. Group VIII:
CH2BrCl (Chlorobromomethane) | 0.12 |  | [Reserved] |

[FR Doc. 03-18154 Filed 7-17-03; 8:45 am]

BILLING CODE 6560-50-U